COMMISSION ON CIVIL RIGHTS

Sunshine Act Notice

AGENCY: United States Commission on Civil Rights.

ACTION: Notice of meeting.

DATE AND TIME: Friday, July 15, 2011; 9:30 a.m. EDT.

PLACE: 624 Ninth Street, NW., Room 540, Washington, DC 20425.

MEETING AGENDA This meeting is open to the public.

I. Approval of Agenda.

II. Approval of the June 10, 2011 Meeting Minutes.

III. Program Planning:

• Consideration of enforcement report topic for FY 2012.

• Consideration of additional briefing topics for FY 2012.

• Inclusion of rebuttal to enforcement report for FY 2010.

• Approval of Age Discrimination briefing report.

IV. Management and Operations:

• Staff Director's report.

• Discussion of the 2013 Budget.

V. State Advisory Committee Issues:

• Discussion of Commissioner recommendations of SAC members.

• Re-chartering the New Hampshire SAC.

VI. Adjourn.

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least three (3) business days before the scheduled date of the meeting.

Dated: July 5, 2011.
Kimberly A. Tolhurst,
Senior Attorney-Advisor.

[FR Doc. 2011-17219 Filed 7-5-11; 4:15 pm]

BILLING CODE 6335-01-P